FEDERAL COMMUNICATIONS COMMISSION

47 CFR Part 9

[PS Docket Nos. 20-291 and 09-14, FCC 21-80; FRS 91583]

911 Fee Diversion; New and Emerging Technologies 911 Improvement Act of 2008

Correction

In rule document 2022-13230, appearing on pages 37237-37239, in the issue of Wednesday, June 22, 2022, make the following correction:

On page 37238, in the first column, the first and second lines below the DATES heading should read:

“Effective date: This rule is effective June 22, 2022.”

[FR Doc. C1-2022-13230 Filed 6-27-22; 8:45 am]

BILLING CODE 0099-10-D